DEPARTMENT OF HEALTH AND HUMAN SERVICES

Centers for Disease Control and Prevention

Notice of Award of a Single-Source Cooperative Agreement To Fund the United Nations Children's Fund (UNICEF)

AGENCY: Centers for Disease Control and Prevention (CDC), Department of Health and Human Services (HHS).

ACTION: Notice.

SUMMARY: The Centers for Disease Control and Prevention (CDC), located within the Department of Health and Human Services (HHS) announces the award of $750,000 with an expected total funding of approximately $3,750,000 in funding to the United Nations Children's Fund (UNICEF) to plan and conduct assessments of micronutrient deficiencies burden and to design and implement systems to monitor and evaluate micronutrient and nutrition interventions in select countries, including Nepal, Ghana, Tanzania, Uganda, Niger, and Guatemala.

DATES: The period for this award will be January 1, 2022 through December 31, 2026.

FOR FURTHER INFORMATION CONTACT: Maria Elena Jefferds, National Center for Chronic Disease Prevention and Health Promotion, Centers for Disease Control and Prevention, 4770 Buford Highway, MS S107-5, Atlanta, GA 30341, Telephone: 770.488.5862, email: mnj5@cdc.gov.

SUPPLEMENTARY INFORMATION: The single-source award will focus on assessments of micronutrient status and the design and implementation of systems to monitor and evaluate micronutrient interventions, such as vitamin and mineral supplementation and fortification programs, and other nutrition interventions, such as infant and young child feeding, dietary counseling, and growth monitoring, in select countries. Specifically, the award will focus on the development of recommendations that inform country-specific nutrition strategies. The award will build in-country capacity to implement standardized national nutrition programs and micronutrient interventions to reduce the worldwide burden of micronutrient deficiencies. Key strategies include collaborating with ministries of health (MOH) and other key partners in developing countries. This work will advance the knowledge base about micronutrient deficiencies, and has the potential to benefit other countries, including the U.S.

UNICEF has a unique position among the world's health agencies as the technical agency for maternal and child health within the United Nations, with access to all national health promotion and disease prevention programs and potential surveillance sites through its regional offices located in seven (7) regions (Central and Eastern Europe and the Commonwealth of Independent States, East Asia and the Pacific, Eastern and Southern Africa, Latin America and the Caribbean, Middle East and Northern Africa, South Asia, West and Central Africa) and in 190 country offices.

Summary of the Award

Recipient: United Nations Children's Fund (UNICEF).

Purpose of the Award: The purpose of this award is to develop recommendations that inform country-specific nutrition strategies and build in-country capacity to implement standardized national nutrition programs and micronutrient interventions to reduce the worldwide burden of micronutrient deficiencies.

Amount of Award: $750,000 in Federal Fiscal Year (FFY) 2022 funds, and a total of $3,750,000 for a five-year period of performance, subject to availability of funds.

Authority: Public Health Service Act, Title 42, Sections 307 and 301 U.S.C. 241l and 241(a).

Period of Performance: January 1, 2022 through December 31, 2026.

Dated: November 19, 2021.
Terrance Perry,
Chief Grants Management Officer, Centers for Disease Control and Prevention.

[FR Doc. 2021-25764 Filed 11-24-21; 8:45 am]

BILLING CODE 4163-18-P